DEPARTMENT OF STATE

[Public Notice 9204; No. FMA-2015-01]

Designation and Determination Pursuant to the Foreign Missions Act; Development and Management of Approximately 32 Acres in the District of Columbia, on a Portion of the Former Walter Reed Army Medical Center

In order to facilitate the Department of State's acquisition abroad of real property on which to construct safe, secure, and modern facilities for American diplomatic and consular operations, and in light of the difficulties that a growing number of foreign missions in the United States have encountered with respect to identifying properties and locations in the District of Columbia suitable for the construction and operation of modern chancery facilities, the Department of State intends to establish a second location in the Nation's Capital that is dedicated to foreign mission operations.

Thus, pursuant to the Department of State's authority under 22 U.S.C. 4308(e)(1), which authorizes the head of any Federal agency to transfer property to the Department of State to further the purposes of the Foreign Missions Act (22 U.S.C. 4301-4316) (“FMA”), the Department of State has concluded an agreement with the Department of the Army concerning the transfer to the Department of State of approximately 32 acres of excess Federal property at the location of the former Walter Reed Army Medical Center (hereinafter referred to as the “Foreign Missions Center” or “FMC”). The official metes and bounds of this property are in the process of being formally established.

In accordance with the authority vested in me under the FMA and under Delegation of Authority No. 147, dated September 13, 1982, and after due consideration of the need to exercise reciprocity to obtain certain benefits for the United States, I hereby designate the acquisition and use of property (including construction or renovation of facilities on the property) by foreign missions at the FMC, as well as access to and use of roads, sidewalks and other common areas, and other public services at the FMC, to be a benefit as defined in 22 U.S.C. 4302(a)(1). I hereby determine, under 22 U.S.C. 4304, that the Department of State's regulation of the acquisition and use of property in the FMC, as well as access to and use of roads, sidewalks and other common areas, and other public services at the FMC is reasonably necessary in order to: (1) Facilitate relations between the United States and a sending State; (2) protect the interests of the United States; and (3) adjust for costs and procedures of obtaining benefits for missions of the United States abroad. This action will enable the Office of Foreign Missions (OFM) of the Department of State to facilitate the secure and efficient operation of foreign missions in the United States.

Accordingly, the process through which foreign missions will be authorized to acquire, use, and dispose of property and to construct or renovate facilities will be subject to all terms and conditions established in this regard by the Director of the Office of Foreign Missions (OFM). At a minimum, such terms and conditions on which OFM will approve a request from a foreign mission for the acquisition of a lot at the FMC shall include due consideration of the related real property accommodations extended to missions of the United States in the country or territory represented by that foreign mission.

Pursuant to 22 U.S.C. 4306(b)(2)(B), because the FMC is in an area other than one referenced in § 4306(b)(1), the location, replacement, or expansion of chanceries at the FMC is permitted, subject only to disapproval by the District of Columbia Board of Zoning Adjustment in accordance with the procedures and criteria set forth in 22 U.S.C. 4306.

To implement this determination, the Department of State intends to use the working capital fund, consistent with 22 U.S.C. 4308(h) and any terms, conditions, and procedures so established by the Chief Financial Officer, or designee, for all transactions associated with the Department of State's development and management of the FMC.

In particular, the funding needed to develop and manage the FMC shall be primarily obtained from the revenues generated as a result of the following actions:

1. The Department of State's execution of long-term land leases with foreign missions;

2. the Department of State's sale of existing buildings to foreign missions;

3. the transfer of funds in connection with an in-kind exchange of properties, as authorized under 22 U.S.C. 4304(f); and

4. the provision of services or benefits to or on behalf of foreign missions or other Federal agencies that are in furtherance of the Department of State's responsibilities and functions under the FMA.

Additionally, to the maximum extent and for the longest practical duration possible, the funding needed to cover the Department's obligations to manage and maintain the FMC's common areas, or those areas that are not assigned for the exclusive use of a foreign mission, shall also be generated as a result of the actions outlined above. In this regard, any proposed overall revenue generation and anticipated expenditure plan will cover all costs associated with the development of the FMC and as well projected costs associated with the maintenance of the non-public roads, sidewalks, and other common areas not assigned for the exclusive use of a foreign mission for a duration of at least a period of 25 years.

For purposes of this document, the terms “chancery” and “foreign mission” are defined respectively at 22 U.S.C. 4302(a)(2) and (3).

Dated: July 14, 2015.
Patrick F. Kennedy,
Under Secretary for Management.

[FR Doc. 2015-18333 Filed 7-24-15; 8:45 am]

BILLING CODE 4710-05-P